DEPARTMENT OF COMMERCE

International Trade Administration

[A-570-016]

Certain Passenger Vehicle and Light Truck Tires From the People's Republic of China: Preliminary Results and Partial Rescission of Antidumping Duty Administrative Review; 2023-2024

AGENCY: Enforcement and Compliance, International Trade Administration, Department of Commerce.

SUMMARY: The U.S. Department of Commerce (Commerce) preliminarily finds that certain exporters of passenger vehicle and light truck tires (passenger tires) from the People's Republic of China (China) made sales of subject merchandise at prices below normal value (NV) during the period of review (POR) August 1, 2023, through July 31, 2024. We are also rescinding this administrative review for 16 companies because either all requests for review were withdrawn or these companies had no reviewable entries during the POR. We invite interested parties to comment on these preliminary results.

DATES: Applicable February 11, 2026.

FOR FURTHER INFORMATION CONTACT: Lilit Astvatsatrian, AD/CVD Operations, Office IX, Enforcement and Compliance, International Trade Administration, U.S. Department of Commerce, 1401 Constitution Avenue NW, Washington, DC 20230; telephone: (202) 482-6412.

SUPPLEMENTARY INFORMATION:

Background

On August 10, 2015, Commerce published in the Federal Register an antidumping duty (AD) order on passenger tires from China.¹ On September 20, 2024, based on timely requests for review from the petitioner ² and other interested parties,³ in accordance with 19 CFR 351.221(c)(1)(i), we initiated an administrative review of the Order covering 20 exporters of the subject merchandise.⁴

¹ See Certain Passenger Vehicle and Light Truck Tires from the People's Republic of China: Amended Final Affirmative Antidumping Duty Determination and Antidumping Duty Order; and Amended Final Affirmative Countervailing Duty Determination and Countervailing Duty Order, 80 FR 47902 (August 10, 2015) (Order).

² The petitioner is the United Steel, Paper and Forestry, Rubber, Manufacturing, Energy, Allied Industrial and Service Workers International Union, AFL-CIO, CLC.

³ See Pirelli Tyre Co., Ltd.'s (Pirelli's) Letter, “Pirelli's Request for AD Review,” dated August 5, 2024; Petitioner's Letter, “Request for Administrative Reviews,” dated August 28, 2024; Jiangsu General Science Technology Co., Ltd.'s (Jiangsu General's) and Qingdao Keter International Co., Limited's (Keter's) Letter, “Request for Administrative Review,” dated August 30, 2024; Hankook Tire China Co., Ltd.'s (Hankook Tire's) and Jiangsu Hankook Tire Co., Ltd.'s (Jiangsu Hankook's) Letter, “Request for Administrative Review,” dated August 30, 2024; Giti Tire Global Trading Pte. Ltd.'s (Giti's) Letter, “Request for Administrative Review,” dated September 3, 2024; Qingdao Lakesea Tyre Co., Ltd's (Qingdao Lakesea's) Letter, “Request for Administrative Review,” dated September 3, 2024; Sailun Group Co. Ltd.'s (Sailun Group's) Letter, “Sailun and Linglong Request for Administrative Review,” dated September 3, 2024; Sumitomo Rubber (Hunan) Co., Ltd.'s (Sumitomo's) Letter, “Request for Administrative Review,” dated September 3, 2024; and Qingdao Transamerica Tire Industrial Co., Ltd.'s (Transamerica's) Letter, “Request for Administrative Review,” dated August 30, 2024.

⁴ See Initiation of Antidumping and Countervailing Duty Administrative Reviews, 89 FR 77079 (September 20, 2024).

On December 9, 2024, Commerce tolled certain deadlines in this administrative proceeding by 90 days.⁵ On July 16, 2025, Commerce extended the deadline for the preliminary results of this administrative review by 90 days.⁶ Due to the lapse in appropriations and Federal Government shutdown, on November 14, 2025, Commerce tolled all deadlines in administrative proceeding by 47 days.⁷ Additionally, due to a backlog of documents that were electronically filed via Enforcement and Compliance's Antidumping and Countervailing Duty Centralized Electronic Service System (ACCESS) during the Federal Government shutdown, on November 24, 2025, Commerce tolled all deadlines in administrative proceedings by an additional 21 days.⁸ Finally, on December 17, 2025, Commerce extended the deadline for the preliminary results by 30 days.⁹ Accordingly, the deadline for these preliminary results is now February 5, 2026.

⁵ See Memorandum, “Tolling of Deadlines for Antidumping and Countervailing Duty Proceedings,” dated December 9, 2024.

⁶ See Memorandum, “Extension of Deadline for Preliminary Results of 2023-2024 Antidumping Duty Administrative Review,” dated July 16, 2025.

⁷ See Memorandum, “Deadlines Affected by the Shutdown of the Federal Government,” dated November 14, 2025.

⁸ See Memorandum, “Tolling of all Case Deadlines,” dated November 24, 2025.

⁹ See Memorandum, “Extension of Deadline for Preliminary Results of 2023-2024 Antidumping Duty Administrative Review,” dated December 17, 2025.

For a complete description of the events that followed the initiation of this administrative review, see the Preliminary Decision Memorandum.¹⁰ A list of topics discussed in the Preliminary Decision Memorandum is included in Appendix I. The Preliminary Decision Memorandum is a public document and is on file electronically via ACCESS. ACCESS is available to registered users at https://access.trade.gov. In addition, a complete version of the Preliminary Decision Memorandum can be accessed directly at https://access.trade.gov/public/FRNoticesListLayout.aspx.

¹⁰ See Memorandum, “Decision Memorandum for the Preliminary Results of the Antidumping Duty Administrative Review of Certain Passenger Vehicle and Light Truck Tires from the People's Republic of China; 2023-2024,” dated concurrently with, and hereby adopted by, this notice (Preliminary Decision Memorandum).

Scope of the Order

The products covered by the Order are passenger tires from China. For a full description of the scope of the Order, see the Preliminary Decision Memorandum.

Partial Rescission of Administrative Review

Pursuant to 19 CFR 351.213(d)(1), Commerce will rescind an administrative review, in whole or in part, if a party who requested the review withdraws the request within 90 days of the date of publication of notice of initiation of the requested review in the Federal Register. For the companies identified in Appendix II,¹¹ all parties timely withdrew their requests for review by the 90-day withdrawal deadline. Because all parties timely withdrew their requests for a review of these exporters, consistent with 19 CFR 351.213(d)(1), Commerce is rescinding this review, in part, with respect to these companies.

¹¹ See Pirelli's Letter, “Pirelli's Withdrawal Request for AD Review,” dated October 16, 2024; Sailun Group's Letter, “Sailun, Sailun Tire America's, and Linglong Withdrawal Request of Administrative Review,” dated October 20, 2024; Sumitomo's Letter, “Withdrawal of Request for Administrative Review,” dated November 25, 2024, and “Letter to Confirm Withdrawal of Request for Administrative Review and Request to Deselect Companies as Mandatory Respondents or Suspend the Deadlines to Respond to the Initial Questionnaire,” dated December 4, 2024; Zhaoqing Junhong Co., Ltd.'s Letter, “Withdrawal of Request for Administrative Review,” dated December 4, 2024; Giti's Letter, “Withdrawal of Request for Administrative Review,” dated December 5, 2024; Petitioner's Letter, “Withdrawal of Requests for Administrative Review,” dated December 17, 2024; Jiangsu General's and Keter's Letter, “Withdrawal of Request for Administrative Review,” dated December 17, 2024; Jiangsu Hankook's and Hankook Tire's Letter, “Withdrawal of Request for Administrative Review,” dated December 18, 2024; and Qingdao Lakesea's Letter, “Withdrawal of Request for Administrative Review,” dated December 19, 2024.

Furthermore, pursuant to 19 CFR 351.213(d)(3), Commerce will rescind an administrative review when there are no entries of subject merchandise during the POR for which liquidation is suspended.¹² Normally, upon completion of an administrative review, the suspended entries are liquidated at the AD assessment rate calculated for the review period.¹³ Therefore, for an administrative review of a company to be conducted, there must be a suspended entry that Commerce can instruct U.S. Customs and Border Protection (CBP) to liquidate at the AD assessment rate calculated for the POR.¹⁴

¹² See, e.g., Dioctyl Terephthalate from the Republic of Korea: Rescission of Antidumping Administrative Review; 2021-2022, 88 FR 24758 (April 24, 2023); see also Certain Carbon and Alloy Steel Cut- to Length Plate from the Federal Republic of Germany: Recission of Antidumping Administrative Review; 2020-2021, 88 FR 4157 (January 24, 2023).

¹³ See 19 CFR 351.212(b)(2).

¹⁴ See 19 CFR 351.213(d)(3).

In February 2025, we notified interested parties of our intent to rescind this administrative review, in part, with respect to three companies because there were no suspended entries of subject merchandise produced or exported by these companies during the POR, and we invited interested parties to comment.¹⁵ The petitioner submitted comments on the Intent to Rescind Memorandum, alleging that there were entries from both Shandong Yongsheng Rubber Group Co., Ltd. (Yongsheng) and Qingdao Fullrun Tech Tyre Corp., Ltd. (Fullrun Tech).¹⁶ In response to these concerns, we obtained entry documents for Yongsheng, which we placed on the record.¹⁷ This information shows that, while Yongsheng was the manufacturer of the entries at issue, there is no indication that it had knowledge that this merchandise was destined for the United States.¹⁸ Therefore, we are rescinding this administrative review for Yongsheng, in accordance with 19 CFR 351.213(d)(3).

¹⁵ See Memorandum, “Notice of Intent to Rescind Review, In Part,” dated February 13, 2025 (Intent to Rescind Memorandum).

¹⁶ See Petitioner's Letter, “Petitioner's Comments on Commerce's Intent to Rescind,” dated February 20, 2025.

¹⁷ See Memorandum, “Release of U.S. Customs and Border Protection Entry Documents,” dated December 4, 2025.

¹⁸ Id.

Further, in the absence of any suspended entries of subject merchandise from Shandong Duratti Rubber Corporation Co., Ltd. (Duratti), we are rescinding the administrative review for Duratti, in accordance with 19 CFR 351.213(d)(3). However, with respect to Fullrun Tech, as discussed below, we preliminarily determine that this company is part of the China-wide entity.

Methodology

Commerce is conducting this review in accordance with section 751(a)(1)(B) of the Tariff Act of 1930, as amended (the Act), and 19 CFR 351.213. We calculated constructed export prices in accordance with section 772(b) of the Act. Because China is a non-market economy (NME) country, within the meaning of section 771(18) of the Act, we calculated NV in accordance with section 773(c) of the Act. In addition, Commerce has relied on partial adverse facts available under sections 776(a) and (b) of the Act for Transamerica and Shandong Haohua Tire Co., Ltd. (Haohua). For a full description of the methodology underlying our conclusions, see the Preliminary Decision Memorandum.

Separate Rates

As discussed in the Preliminary Decision Memorandum, Commerce preliminarily finds that Fullrun Tech has not established its eligibility for a separate rate. As such, we preliminarily determine that Fullrun Tech is part of the China-wide entity.

Commerce preliminarily determines that the following companies have demonstrated their eligibility for a separate rate in this review:¹⁹ (1) Transamerica; (2) Haohua; and (3) Triangle Tyre Co., Ltd. (Triangle Tyre).

¹⁹ See Preliminary Decision Memorandum at “Separate Rates.”

The Act and Commerce's regulations do not address the establishment of a rate to apply to companies not selected for individual examination when Commerce limits its examination in an administrative review pursuant to section 777A(c)(2) of the Act. Generally, Commerce looks to section 735(c)(5) of the Act, which provides instructions for calculating the all-others rate in an investigation, for guidance when determining the dumping margin for respondents that are not individually examined in an administrative review. Section 735(c)(5)(A) of the Act states that the all-others rate should be calculated by averaging the weighted-average dumping margins for individually-examined respondents, excluding dumping margins that are zero, de minimis, or based entirely on facts available. For these preliminary results, we preliminarily determined a dumping margin for the separate rate respondent, Triangle Tyre, as the weighted average of the calculated rate of the mandatory respondents, Transamerica and Haohua, which are not zero or de minimis, or determined entirely on the basis of facts available.

China-Wide Entity

Commerce's policy regarding conditional review of the China-wide entity applies to this administrative review.²⁰ Because no party requested a review of the China-wide entity, the China-wide entity is not under review. Therefore, the rate previously established for the China-wide entity (i.e., 76.46 percent) remains the China-wide entity rate this review.²¹

²⁰ See Antidumping Proceedings: Announcement of Change in Department Practice for Respondent Selection in Antidumping Duty Proceedings and Conditional Review of the Nonmarket Economy Entity in NME Antidumping Duty Proceedings, 78 FR 65963 (November 4, 2013).

²¹ See Order, 80 FR at 47904, n.19.

Preliminary Results of Review

We preliminarily determine that the following estimated weighted-average dumping margins exist for the POR August 1, 2023, through July 31, 2024:

Exporter | Weighted- average dumping margin (percent)
Qingdao Transamerica Tire Industrial Co., Ltd | 61.43
Shandong Haohua Tire Co., Ltd | 62.56
Triangle Tyre Co., Ltd | 61.47

Disclosure

Commerce intends to disclose its calculations and analysis performed to interested parties in these preliminary results within five days of any public announcement or, if there is no public announcement, within five days of the date of publication of this notice in the Federal Register, in accordance with 19 CFR 351.224(b).

Public Comment

Case briefs and other written comments may be submitted to the Assistant Secretary for Enforcement and Compliance. Pursuant to 19 CFR 351.309(c), we have modified the deadline for interested parties to submit case briefs to Commerce to no later than 21 days after the date of publication of this notice. Rebuttal briefs, limited to issues raised in the case briefs, may be filed not later than five days after the date for filing case briefs.²² Interested parties who submit case briefs or rebuttal briefs in this proceeding must submit: (1) a table of contents listing each issue; and (2) a table of authorities.²³ An electronically filed document must be received successfully in its entirety in ACCESS by 5:00 p.m. Eastern Time (ET) on the established deadline. As provided under 19 CFR 351.309(c)(2)(iii) and (d)(2)(iii), we request that interested parties provide at the beginning of their briefs a public, executive summary for each issue raised in their briefs.²⁴ Further, we request that interested parties limit their public executive summary of each issue to no more than 450 words, not including citations. We intend to use the public executive summaries as the basis of the comment summaries included in the issues and decision memorandum that will accompany the final results in this administrative review. We request that interested parties include footnotes for relevant citations in the public executive summary of each issue. Note that Commerce has amended certain of its requirements pertaining to the service of documents in 19 CFR 351.303(f).²⁵

²² See 19 CFR 351.309(d); see also Administrative Protective Order, Service, and Other Procedures in Antidumping and Countervailing Duty Proceedings, 88 FR 67069, 67077 (September 29, 2023) (APO and Service Final Rule).

²³ See 19 CFR 351.309(c)(2) and (d)(2).

²⁴ We use the term “issue” here to describe an argument that Commerce would normally address in a comment of the Issues and Decision Memorandum.

²⁵ See APO and Service Final Rule.

Pursuant to 19 CFR 351.310(c), interested parties who wish to request a hearing must submit a written request to the Assistant Secretary for Enforcement and Compliance, filed electronically via ACCESS. An electronically filed hearing request must be received successfully in its entirety by Commerce's electronic records system, ACCESS, by 5:00 p.m. ET within 30 days after the date of publication of this notice.²⁶ Hearing requests should contain: (1) the party's name, address and telephone number; (2) the number of participants; (3) whether any participant is a foreign national; and (4) a list of issues to be discussed. Issues raised in the hearing will be limited to those raised by each party in their respective case and rebuttal briefs. An electronically filed request must be received successfully in its entirety by ACCESS by 5:00 p.m. Eastern Time, within 30 days of the publication date of this notice. If a request for a hearing is made, parties will be notified of the time and date of the hearing.²⁷

²⁶ See 19 CFR 351.301(c).

²⁷ See 19 CFR 351.310(d).

Assessment Rates

Pursuant to section 751(a)(2)(A), upon completion of this administrative review, Commerce shall determine, and CBP shall assess, antidumping duties on all appropriate entries covered by this review.²⁸ Pursuant to 19 CFR 351.212(b)(1), because Haohua and Transamerica reported the entered value for their U.S. sales, we calculated importer-specific ad valorem duty assessment rates based on the ratio of the total amount of dumping calculated for the importer's examined sales to the total entered value of those sales. Where either a respondent's weighted-average dumping margin is zero or de minimis within the meaning of 19 CFR 351.106(c)(1), or an importer-specific rate is zero or de minimis, we will instruct CBP to liquidate the appropriate entries without regard to antidumping duties.²⁹

²⁸ See 19 CFR 351.212(b)(1).

²⁹ Id.

Pursuant to Commerce's assessment practice,³⁰ for entries that were not reported in the U.S. data submitted by Haohua and Transamerica, we will instruct to CBP to liquidate such entries at the China-wide rate. Additionally, where Commerce determines that an exporter under review had no shipments of subject merchandise to the United States during the POR, any suspended entries of subject merchandise that entered under that exporter's CBP case number during the POR will be liquidated at the dumping margin assigned to the China-wide entity.

³⁰ See Non-Market Economy Antidumping Proceedings: Assessment of Antidumping Duties, 76 FR 65694 (October 24, 2011), for a full discussion of this practice.

For Triangle Tyre, the separate rate respondent, the assessment rate will be equal to the weighted-average dumping margin calculated using the rates assigned to Haohua and Transamerica in the final results of this review.³¹ Finally, we intend to liquidate entries containing subject merchandise exported by the companies under review that we determine in the final results to be part of the China-wide entity at the China-wide rate of 76.46 percent.

³¹ See Drawn Stainless Steel Sinks from the People's Republic of China: Preliminary Results of the Antidumping Duty Administrative Review and Preliminary Determination of No Shipments: 2014-2015, 81 FR 29528 (May 12, 2016), and accompanying PDM at 10-11, unchanged in Drawn Stainless Steel Sinks from the People's Republic of China: Final Results of Antidumping Duty Administrative Review; Final Determination of No Shipments; 2014-2015, 81 FR 54042 (August 15, 2016).

In accordance with section 751(a)(2)(C) of the Act, the final results of this review shall be the basis for the assessment of antidumping duties on entries of merchandise covered by the final results of this review and for future deposits of estimated antidumping duties, where applicable. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Finally, for the companies for which we are rescinding this review, Duratti and Yongsheng, we intend to instruct CBP to assess antidumping duties on all appropriate entries at a rate equal to the cash deposit rate of estimated antidumping duties required at the time of entry, or withdrawal from warehouse, for consumption in accordance with 19 CFR 351.212(c)(1)(i). Commerce intends to issue assessment instructions to CBP for these companies no earlier than 35 days after the date of publication of this notice in the Federal Register.

Cash Deposit Requirements

The following cash deposit requirements will be effective upon publication of the final results of this administrative review for all shipments of the subject merchandise from China entered, or withdrawn from warehouse, for consumption on or after the publication date, as provided for by section 751(a)(2)(C) of the Act: (1) for the companies listed above that have a separate rate, the cash deposit rate will be that rate established in the final results of this review (except, if the rate is zero or de minimis, then a cash deposit rate of zero will be established for that company); (2) for previously investigated or reviewed exporters not listed in the final results of review that have separate rates, the cash deposit rate will continue to be the exporter's weighted-average dumping margin published of the most recently-completed segment of this proceeding; (3) for all Chinese exporters of subject merchandise that have not been found to be entitled to a separate rate, the cash deposit rate will be the rate for the China-wide entity (i.e., 76.46 percent); ³² and (4) for all exporters of subject merchandise which are not located in China and are not eligible for a separate rate, the cash deposit rate will be the rate applicable to Chinese exporter(s) that supplied that non-Chinese exporter. These deposit requirements, when imposed, shall remain in effect until further notice.

³² See Order, 80 FR at 47904, n.19.

Final Results

Unless the deadline is extended pursuant to section 751(a)(3)(A) of the Act and 19 CFR 351.213(h)(2), Commerce intends to issue the final results of this administrative review, including the results of our analysis of the issues raised in any case briefs, not later than 120 days after the date of publication of this notice.

Notification to Importers

This notice also serves as a reminder to importers of their responsibility under 19 CFR 351.402(f)(2) to file a certificate regarding the reimbursement of antidumping and/or countervailing duties prior to liquidation of the relevant entries during this POR. Failure to comply with this requirement could result in Commerce's presumption that reimbursement of antidumping and/or countervailing duties occurred and the subsequent assessment of double antidumping duties and/or an increase in the amount of antidumping duties by the amount of the countervailing duties.

Notification to Interested Parties

We are issuing and publishing these results in accordance with sections 751(a)(1) and 777(i)(1) of the Act, and 19 CFR 351.213 and 19 CFR 351.221(b)(4).

Dated: February 5, 2026.
Christopher Abbott,
Deputy Assistant Secretary for Policy and Negotiations, performing the non-exclusive functions and duties of the Assistant Secretary for Enforcement and Compliance.

Appendix I

List of Topics Discussed in the Preliminary Decision Memorandum

I. Summary

II. Background

III. Scope of the Order

IV. Use of Facts Available and Adverse Inferences

V. Discussion of the Methodology

VI. Currency Conversion

VII. Recommendation

Appendix II

Companies Rescinded Based on Timely Withdrawals of Requests for Review

1. Giti Radial Tire (Anhui) Company, Ltd.; Giti Tire (Anhui) Company, Ltd.; Giti Tire (Chongqing) Company, Ltd.; Giti Tire (Fujian) Company, Ltd.; Giti Tire Global Trading Pte. Ltd.; Giti Tire Greatwall Company, Ltd.; Giti Tire (Hualin) Company, Ltd.; Giti Tire (Yinchuan) Company, Ltd.

2. Hankook Tire China Co., Ltd.

3. Jiangsu General Science Technology Co., Ltd.

4. Jiangsu Hankook Tire Co., Ltd.

5. Pirelli Tyre Co., Ltd.

6. Qingdao Fullrun Tyre Corp., Ltd.

7. Qingdao Keter International Co., Limited

8. Qingdao Lakesea Tyre Co., Ltd.

9. Qingdao Powerich Tyre Co., Ltd.

10. Dynamic Tire Corp.; Shandong Jinyu Industrial Co.; Sailun Tire International Corp.; Husky Tire Corp.; Seatex PTE. Ltd.; Seatex International Inc.; Sailun Group (HongKong) Co., Limited; Sailun HK; Sailun Jinyu HK; Sailun Group Co., Ltd.; Sailun Group; Sailun Jinyu Group Co., Ltd.; and Sailun Jinyu

11. Sailun Tire Americas Inc.

12. Shandong Linglong Tyre Co., Ltd.

13. Sumitomo Rubber (Changshu) Co., Ltd.; Sumitomo Rubber (Hunan) Co., Ltd.; and Sumitomo Rubber Industries, Ltd.

14. Zhaoqing Junhong Co., Ltd.

[FR Doc. 2026-02779 Filed 2-10-26; 8:45 am]

BILLING CODE 3510-DS-P